DEPARTMENT OF ENERGY

Federal Energy Regulatory Commission

[Docket No. RP00-508-000]

Midwestern Gas Transmission Company; Notice of Tariff Filing

August 31, 2000.

Take notice that on August 25, 2000, Midwestern Gas Transmission Company (Midwestern) tendered for filing as part of its FERC Gas Tariff, Second Revised Volume No. 1, Second Revised Sheet No. 110. Midwestern requests an effective date of September 26, 2000.

Midwestern states that Sheet No. 110 is being filed to comply with the Commission's July 26, 2000 “Order Authorizing Merger” in Docket No. EC00-73. El Paso Energy Corporation and The Coastal Corporation, 92 FERC (61,076 (2000) (hereinafter, the July 26th Order). In the July 26th Order, the Commission approved the application of El Paso Energy Corporation and The Coastal Corporation requesting Commission approval of the proposed merger between the two companies. Midwestern further states that Sheet No. 110 effectuates that commitment of the respective companies to file tariff sheets, for ANR Pipeline Company and Midwestern, committing that future pipeline expansion capacity will be offered to all shippers on a non-discriminatory basis.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22931 Filed 9-6-00; 8:45 am]

BILLING CODE 6717-01-M